DEPARTMENT OF TRANSPORTATION

National Highway Traffic Safety Administration

[Docket No. NHTSA-2011-0149]

National Emergency Medical Services Advisory Council (NEMSAC); Notice of Federal Advisory Committee Meeting

AGENCY: National Highway Traffic Safety Administration (NHTSA), U.S. Department of Transportation (DOT).

ACTION: Meeting Notice—National Emergency Medical Services Advisory Council.

SUMMARY: The NHTSA announces a meeting of NEMSAC to be held in the Metropolitan Washington, DC, area. This notice announces the date, time, and location of the meeting, which will be open to the public. The purpose of NEMSAC is to provide a nationally recognized council of emergency medical services representatives and consumers to provide advice and recommendations regarding Emergency Medical Services (EMS) to DOT's NHTSA.

DATES: The meeting will be held on December 13, 2011, from 1 p.m. to 5 p.m. E.S.T., and on December 14, 2011, from 8 a.m. to 12 p.m. E.S.T. A public comment period will take place on December 13, 2011, between 3:30 p.m. and 4:30 p.m. E.S.T. Written comments or requests to make oral presentations must be received by December 8, 2011.

ADDRESSES: The meeting will be held at the Key Bridge Marriott at 1401 Lee Highway, Arlington, Virginia 22209.

Written comments and requests to make oral presentations at the meeting should reach Drew Dawson or Noah Smith at the address listed below and should be received by December 8, 2011. All submissions received may be submitted by either one of the following methods: (1) You may submit comments by e-mail: drew.dawson@dot.gov or noah.smith@dot.gov or (2) you may submit comments by fax: 202-366-7149.

FOR FURTHER INFORMATION CONTACT: Drew Dawson, Director, U.S. Department of Transportation, Office of Emergency Medical Services, 1200 New Jersey Avenue, SE., NTI-140, Washington, DC 20590, telephone number 202-366-9966; e-mail Drew.Dawson@dot.gov.

SUPPLEMENTARY INFORMATION: Notice of this meeting is given under the Federal Advisory Committee Act, Public Law 92-463, as amended (5 U.S.C. App.). The NEMSAC will meet on Tuesday and Wednesday, December 13-14, 2011, at the Key Bridge Marriott at 1401 Lee Highway, Arlington, Virginia 22209.

Agenda of National EMS Advisory Council Meeting, December 13-14, 2011

The tentative agenda includes the following:

Tuesday, December 13, 2011

(1) Opening Remarks.

(2) Introduction of Members and All in Attendance.

(3) Review and Approval of Minutes of Last Meeting.

(4) Update from NHTSA Office of EMS.

(5) Presentation of the Draft Culture of Safety Strategy.

(6) Federal Partner Update.

(7) Public Comment Period.

(8) Business of the Council.

Wednesday, December 14, 2011

(1) Presentations from NEMSAC Committees.

(2) Deliberations of Committee Documents.

(3) Discussion of New and Emerging Issues.

(4) Unfinished Business/Continued Discussion from Previous Day.

(5) Next Steps and Adjourn.

A public comment period will take place on December 13, 2011, between 3:30 p.m. and 4:30 p.m. E.S.T.

Public Attendance: This meeting will be open to the public. There will not be a teleconference option for this meeting. Individuals wishing to attend must provide their name, affiliation, phone number, and e-mail address to Noah Smith by e-mail at Noah.Smith@dot.gov or by telephone at 202-366-5030 no later than December 8, 2011.

Members of the public who wish to make comments on Tuesday, December 13, 2011, between 3:30 p.m. and 4:30 p.m. E.S.T. are requested to register in advance. In order to allow as many people as possible to speak, speakers are requested to limit their remarks to 5 minutes. For those wishing to submit written comments, please follow the procedure noted above.

Minutes of the NEMSAC Meeting will be available to the public online through http://www.ems.gov.

Issued on: October 12, 2011.
Jeffrey P. Michael,
Associate Administrator for Research and Program Development.

[FR Doc. 2011-26756 Filed 10-14-11; 8:45 am]

BILLING CODE 4910-59-P